DEPARTMENT OF AGRICULTURE

Forest Service

Oregon Coast Provincial Advisory Committee Meeting

AGENCY: Forest Service, USDA.

ACTION: Notice of meeting.

SUMMARY: The Oregon Coast Provincial Advisory Committee (PAC) will meet on July 18, 2002. The meeting will begin at 9 a.m., in the Siuslaw National Forest Supervisor's Office, 4077 SW Research Way, Corvallis, Oregon. Agenda items, with a theme of “Landscape Dynamics,” will include an overview of the Coastal Landscape & Monitoring System (CLAMS), an overview of the University of Washington Landscape Management System, a Nestucca Adaptive Management Area overview, and a round robin information sharing session. A fifteen-minute public comment period is scheduled for approximately 11:15 a.m. The committee welcomes the publics' written comments on committee business at anytime. The meeting should end around 2:30 p.m. Interested citizens are encouraged to attend. Lunch will be on your own.

FOR FURTHER INFORMATION CONTACT: Joni Quarnstrom, Public Affairs Specialist, Siuslaw National Forest, 541/750-7075 or write to Forest Supervisor, Siuslaw National Forest, P.O. Box 1148, Corvallis, OR 97339.

Dated: June 28, 2002.
Gloria D. Brown,
Forest Supervisor.

[FR Doc. 02-16942 Filed 7-5-02; 8:45 am]

BILLING CODE 3410-11-M